ENVIRONMENTAL PROTECTION AGENCY

40 CFR Parts 52 and 81

[EPA-R03-OAR-2024-0316; FRL-11777-02-R3]

Air Plan Approval; Pennsylvania; Redesignation of the Allegheny County Nonattainment Area to Attainment and Approval of the Area's Maintenance Plan for the 2010 1-Hour Primary Sulfur Dioxide National Ambient Air Quality Standard

AGENCY: Environmental Protection Agency (EPA).

ACTION: Final rule.

SUMMARY: The Environmental Protection Agency (EPA) is approving both a redesignation request and state implementation plan (SIP) revision submitted on November 14, 2023 by the Commonwealth of Pennsylvania on behalf of the Allegheny County Health Department (ACHD). The request asked the EPA to redesignate the Allegheny County, Pennsylvania area from nonattainment to attainment for the 2010 1-hour primary sulfur dioxide (SO2) national ambient air quality standard (NAAQS), while the revision included Allegheny County's maintenance plan for the 2010 1-hour primary SO2 standard for the Allegheny County Area. The EPA is approving this redesignation of the Allegheny County Area from nonattainment to attainment for the 2010 SO2 NAAQS and the revision to the Pennsylvania SIP in accordance with the requirements of the Clean Air Act (CAA).

DATES: This final rule is effective on May 28, 2025.

ADDRESSES: The EPA has established a docket for this action under Docket ID Number EPA-R03-OAR-2024-0316. All documents in the docket are listed on the www.regulations.gov website. Although listed in the index, some information is not publicly available, e.g., confidential business information (CBI) or other information whose disclosure is restricted by statute. Certain other material, such as copyrighted material, is not placed on the internet and will be publicly available only in hard copy form. Publicly available docket materials are available through www.regulations.gov, or please contact the person identified in the FOR FURTHER INFORMATION CONTACT section for additional availability information.

FOR FURTHER INFORMATION CONTACT: Philip McGuire, Planning & Implementation Branch (3AD30), Air & Radiation Division, U.S. Environmental Protection Agency, Region III, 1600 John F Kennedy Boulevard, Philadelphia, Pennsylvania 19103. The telephone number is (215) 814-2251. Mr. McGuire can also be reached via electronic mail at mcguire.philip@epa.gov.

SUPPLEMENTARY INFORMATION:

I. Background

On December 11, 2024 (89 FR 99790), the EPA published a notice of proposed rulemaking (NPRM) for the Commonwealth of Pennsylvania. In the NPRM, the EPA proposed to redesignate the Allegheny County, Pennsylvania area from nonattainment to attainment for the 2010 1-hour primary SO2 NAAQS. The EPA also proposed approval of a revision to the Pennsylvania SIP which included Allegheny County's maintenance plan for the 2010 1-hour primary SO2 NAAQS, the approval of which is required for redesignation under CAA section 107(d)(3)(E). The formal SIP revision was submitted by Pennsylvania on behalf of ACHD on November 14, 2023. The public comment period for the proposed rule ended on January 10, 2024 and the EPA received no comments during the public comment period.

II. Summary of SIP Revision and EPA Analysis

The December 11, 2024 proposal (89 FR 99790) provides a detailed discussion of the requirements of CAA section 107(d)(3)(E)—which identifies the five criteria that must be met before a nonattainment area may be redesignated to attainment—and the EPA's analysis of how each requirement was met. To summarize this discussion: (1) the EPA determined that the Allegheny County Area attained the 2010 SO2 NAAQS based on air quality monitoring data in compliance with the standard and on emissions data that is below modeled emissions limits identified in Pennsylvania's 2017 attainment plan; (2) the EPA determined that Pennsylvania has a fully approved SIP for the Allegheny County Area under section 110(k) of the CAA for all requirements applicable for purposes of redesignation; (3) the EPA determined that the improvement in the Allegheny County Area's air quality is due to permanent and enforceable reductions in emissions, including implemented control measures and lower permitted SO2 emissions rates at various facilities throughout the Allegheny County Area; (4) the EPA determined that Pennsylvania's maintenance plan was fully approvable and ensures that the Allegheny County Area will continue to attain the 2010 SO2 NAAQS for at least 10 years following redesignation and further includes contingency measures to correct for any potential future 2010 SO2 NAAQS violations; and (5) the EPA determined that Pennsylvania has met all applicable requirements for the Allegheny County Area under CAA section 110 and part D. Additional rationale for the EPA's proposed action are explained in the NPRM, and will not be restated here. No public comments were received on the NPRM.

III. Final Action

The EPA is approving the redesignation of the Allegheny County Area from nonattainment to attainment in accordance with Pennsylvania's November 14, 2023, request. The criteria under CAA section 107(d)(3)(E) as specific to the 2010 SO2 NAAQS have been met. The EPA is determining that the Allegheny County Area is attaining the 2010 SO2 NAAQS, the state has a fully approved applicable state implementation plan under CAA section 110(k), the improvement in air quality is due to permanent and enforceable SO2 emission reductions in the Allegheny County Area, the state now has a fully approved maintenance plan for the area (as noted below), and the state has met all requirements applicable to the area under CAA section 110 and Part D. On this basis, the EPA is approving the redesignation request from Pennsylvania for the Allegheny County Area and changing the legal designation of the Allegheny County Area at 40 CFR part 81 to attainment for the 2010 SO2 NAAQS.

The EPA is also approving the Allegheny County 2010 SO2 NAAQS maintenance plan as a revision to the Pennsylvania SIP. The maintenance plan demonstrates that the area will continue to maintain the 2010 SO2 NAAQS for at least 10 years following redesignation and includes a process to implement contingency measures to remedy any future violations of the 2010 SO2 NAAQS.

IV. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Order 12866 (58 FR 51735, October 4, 1993);

• Executive Order 14192 (90 FR 9065, February 6, 2025) does not apply because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the Clean Air Act, petitions for judicial review of this action must be filed in the United States Court of Appeals for the appropriate circuit by June 27, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Incorporation by reference, Intergovernmental relations, Reporting and recordkeeping requirements, Sulfur oxides.

Intergovernmental relations, Reporting and recordkeeping requirements, Sulfur oxides.

40 CFR Part 81

Environmental protection, Air pollution control, Carbon monoxide, Intergovernmental relations, Lead, Nitrogen dioxide, Ozone, Particulate matter, Reporting and recordkeeping requirements, Sulfur oxides, Volatile organic compounds.

Catherine A. Libertz,
Acting Regional Administrator, Region III.

For the reasons stated in the preamble, the EPA amends 40 CFR parts 52 and 81 as follows:

PART 52—APPROVAL AND PROMULGATION OF IMPLEMENTATION PLANS

1. The authority citation for part 52 continues to read as follows:

Authority: 42 U.S.C. 7401 et seq.

Subpart NN—Pennsylvania

2. In § 52.2020, the table in paragraph (e)(1) is amended by adding the entry “Maintenance Plan for the Allegheny County, Pennsylvania Nonattainment Area for the 2010 Sulfur Dioxide Primary National Ambient Air Quality Standard” at the end of the table to read as follows:

§ 52.2020 Identification of plan.

* * * * *

(e) * * *

(1) * * *

Name of non-regulatory SIP revision | Applicable geographic area | State submittal date | EPA approval date | Additional explanation
* * * * * * *
Maintenance Plan for the Allegheny County, Pennsylvania Nonattainment Area for the 2010 Sulfur Dioxide Primary National Ambient Air Quality Standard | Cities of Clairton, Duquesne, and McKeesport; the Townships of Elizabeth, Forward, and North Versailles, and the following Boroughs: Braddock, Dravosburg, East McKeesport, East Pittsburgh, Elizabeth, Glassport, Jefferson Hills, Liberty, Lincoln, North Braddock, Pleasant Hills, Port Vue, Versailles, Wall, West Elizabeth, and West Mifflin | 11/14/2023 | 4/28/2025, 90 FR [INSERT FEDERAL REGISTER PAGE WHERE THE DOCUMENT BEGINS]

* * * * *

PART 81—DESIGNATION OF AREAS FOR AIR QUALITY PLANNING PURPOSES

3. The authority citation for part 81 continues to read as follows:

Authority: 42 U.S.C. 7401 et seq.

4. In § 81.339, amend the table entitled “Pennsylvania—2010 Sulfur Dioxide NAAQS [Primary],” by revising the entry for “Allegheny County (part)” to read as follows:

§ 81.339 Pennsylvania.

* * * * *

Pennsylvania—2010 Sulfur Dioxide NAAQS
[Primary]
Designated area ¹ | Designation: Date ² | Designation: Type
Allegheny, PA:
Allegheny County (part) | 5/28/2025 | Attainment.
The area consisting of: Borough of Braddock, Borough of Dravosburg, Borough of East McKeesport, Borough of East Pittsburgh, Borough of Elizabeth, Borough of Glassport, Borough of Jefferson Hills, Borough of Liberty, Borough of Lincoln, Borough of North Braddock, Borough of Pleasant Hills, Borough of Port Vue, Borough of Versailles, Borough of Wall, Borough of West Elizabeth, Borough of West Mifflin, City of Clairton, City of Duquesne, City of McKeesport, Elizabeth Township, Forward Township, North Versailles Township
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

[FR Doc. 2025-07255 Filed 4-25-25; 8:45 am]

BILLING CODE 6560-50-P